DEPARTMENT OF HEALTH AND HUMAN SERVICES

President's Advisory Council for Faith-based and Neighborhood Partnerships

In accordance with section 10(a)(2) of the Federal Advisory Committee Act (Pub. L. 92-463), the President's Advisory Council for Faith-based and Neighborhood Partnerships announces the following meetings:

Name: President's Advisory Council for Faith-based and Neighborhood Partnerships Council meetings

Times and Dates: Thursday, June 4th at 2 p.m. Eastern; and Tuesday, June 16th at 4 p.m. Eastern.

Place: Meetings will be held via conference call.

Status: Open to the public, limited only by the space available.

Purpose: The Council brings together leaders and experts in fields related to the work of faith-based and neighborhood organizations in order to: Identify best practices and successful modes of delivering social services; evaluate the need for improvements in the implementation and coordination of public policies relating to faith-based and other neighborhood organizations; and make recommendations for changes in policies, programs, and practices.

Contact Person for Additional Information: Mara Vanderslice, 202-205-2419, mara.vanderslice@hhs.gov.

Supplementary Information: The meetings will be held via conference call. There is limited capacity to join the call and will be listen-only mode. Please contact Mara Vanderslice for more information about how to join the call.

Agenda: Topics to be discussed include updates from Council subcommittees on Reform of the Faith-based and Neighborhood Partnerships Office, Economic Recovery, Fatherhood and Healthy Families, Inter-religious Dialogue and Cooperation, Environment and Climate Change and Global Poverty and Development.

Dated: May 13, 2009.
Mara Vanderslice,
Special Assistant.

[FR Doc. E9-11610 Filed 5-18-09; 8:45 am]

BILLING CODE 4154-07-P